FEDERAL COMMUNICATIONS COMMISSION

Notice of Public Information Collection(s) Being Reviewed by the Federal Communications Commission for Extension Under Delegated Authority

July 22, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments October 3, 2005. If you anticipate that you will be submitting comments, but find it difficult to do so within the period of time allowed by this notice, you should advise the contact listed below as soon as possible.

ADDRESSES: You may submit your Paperwork Reduction Act (PRA) comments by email or U.S. postal mail. To submit you comments by email send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an email to PRA@fcc.gov or contact Judith B. Herman at 202-418-0214.

SUPPLEMENTARY INFORMATION: OMB Control No.: 3060-0515.

Title: Section 43.21(c), Miscellaneous Common Carrier Annual Letter Filing Requirement.

Form No.: N/A.

Type of Review: Extension of a currently approved collection.

Respondents: Business or other for profit.

Number of Respondents: 38.

Estimated Time Per Response: 1 hour.

Frequency of Response: Annual reporting requirement.

Total Annual Burden: 38 hours.

Annual Cost Burden: N/A.

Privacy Act Impact Assessment: N/A.

Needs and Uses: Section 43.21(c) requires each miscellaneous common carrier with operating revenues in excess of the indexed threshold as defined in 47 CFR Section 32.9000 for a calendar year to file with the Chief, Wireline Competition Bureau (formerly the Common Carrier Bureau) a letter showing its operating revenues for that year and the value of its total communications plant at the end of that year. The letter must be filed no later than April 1 of the following year. The information is used by FCC staff members to regulate and monitor the telephone industry and by the public to analyze the industry. The information on revenues and total plant is compiled and published in the Commission's annual common carrier statistical publication and trends in telephone service report.

The Commission is seeking extension (no change to this information collection) in order to obtain the full three-year clearance from OMB.

OMB Control No.: 3060-0526.

Title: Density Pricing Zone Plans, Expanded Interconnection with Local Telephone Company Facilities, CC Docket No. 91-141.

Form No.: N/A.

Type of Review: Extension of a currently approved collection.

Respondents: Business or other for profit.

Number of Respondents: 17.

Estimated Time Per Response: 48 hour.

Frequency of Response: On occasion reporting requirement.

Total Annual Burden: 816 hours.

Annual Cost Burden: N/A.

Privacy Act Impact Assessment: N/A.

Needs and Uses: The Commission requires Tier 1 Local Exchange Carriers (LECs) to provide expanded opportunities for third-party interconnection with their interstate special access facilities. The LECs are permitted to establish a number of rate zones within study areas in which expanded interconnection is operational. In the Fifth Report and Order in CC Docket No. 96-262, the Commission allows price cap LECs to define the scope and number of zones within a study area. These LECs must file and obtain approval of their pricing plans which will be used by FCC staff to ensure that the rates are just, reasonable and nondiscriminatory.

The Commission is seeking extension (no change to this information collection) in order to obtain the full three-year clearance from OMB.

OMB Control No.: 3060-0770.

Title: Price Cap Performance Review for Local Exchange Carriers (LECs), CC Docket No. 94-1 (New Services).

Form No.: N/A.

Type of Review: Extension of a currently approved collection.

Respondents: Business or other for profit.

Number of Respondents: 17.

Estimated Time Per Response: 10 hours.

Frequency of Response: On occasion reporting requirement.

Total Annual Burden: 170 hours.

Annual Cost Burden: N/A.

Privacy Act Impact Assessment: N/A.

Needs and Uses: In the Fifth Report and Order, the Commission permits price cap LECs to introduce new services on a streamlined basis without prior approval. The Commission modified the rules to eliminate the public interest showing required by Section 69.4(g) and to eliminate the new services test (except in the case of loop-based new services) required under Sections 61.49(f) and (g). These modifications eliminated the delays that existed for the introduction of new services as well as to encourage efficient investment and innovation.

The Commission no longer requires an incumbent LEC to introduce a new service by filing a waiver under Part 69 of the Commission's rules. Instead, incumbent LECs are allowed to file a petition for the new service based on a public interest standard. After the first incumbent LEC has satisfied the public interest requirement for establishing new rate elements for a new switched access service, other incumbent price cap LECs can file petitions seeking authority to introduce identical rate elements for identical new services, and their petitions will be reviewed within ten days. If the Wireline Competition Bureau (formerly the Common Carrier Bureau) does not act within the prescribed time, authority to establish the rate elements in question are deemed granted. In the event the Bureau denies an incumbent LEC's initial petition, or a subsequent petition filed by another incumbent LEC, the petitioner must file a Part 69 waiver petition.

The Commission is seeking extension (no change to this information collection) in order to obtain the full three-year clearance from OMB.

OMB Control No.: 3060-0793.

Title: Federal-State Joint Board on Universal Service, CC Docket No. 96-45, Procedures for Self Certifying as a Rural Carrier.

Form No.: N/A.

Type of Review: Extension of a currently approved collection.

Respondents: Business or other for profit and State, local or tribal government.

Number of Respondents: 10.

Estimated Time Per Response: 1 hour.

Frequency of Response: On occasion reporting requirement and third party disclosure requirement.

Total Annual Burden: 10 hours.

Annual Cost Burden: N/A.

Privacy Act Impact Assessment: N/A.

Needs and Uses: In the Tenth Report and Order, the Commission adopted proposals that carriers servicing study areas with fewer than 100,000 access lines that already have certified their rural status need not re-certify for purposes of receiving support beginning January 1, 2001 and need only file thereafter if their status changes. Further, carriers serving more than 100,000 access lines need to file rural certifications for their year 2001 status and thereafter only if their status has changed.

The Commission is seeking extension (no change to this information collection) in order to obtain the full three-year clearance from OMB.

OMB Control No.: 3060-1021.

Title: Section 25.139, NGSO FSS.

Form No.: N/A.

Type of Review: Extension of a currently approved collection.

Respondents: Business or other for profit and State, local or tribal government.

Number of Respondents: 10.

Estimated Time Per Response: 1 hour.

Frequency of Response: On occasion reporting requirement and third party disclosure requirement.

Total Annual Burden: 10 hours.

Annual Cost Burden: N/A.

Privacy Act Impact Assessment: N/A.

Needs and Uses: This rule section requires NGSO FSS licensees to maintain a subscriber database in a format than can be readily shared with Multichannel Video Distribution and Data Service (MVDDS) licensees for the purpose of determining compliance with the MVDDS transmitting antenna space requirement relating to qualifying existing NGSO FSS subscriber receivers set forth in 47 CFR 101.129.

The Commission is seeking extension (no change to this information collection) in order to obtain the full three-year clearance from OMB.

Federal Communications Commission.
Marlene H. Dortch,
Secretary.

[FR Doc. 05-15131 Filed 8-2-05; 8:45 am]

BILLING CODE 6712-01-P